ENVIRONMENTAL PROTECTION AGENCY

[ER-FRL-6617-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L65375-00 Rating EC2, Lookout Pass Ski and Recreation Area (LPSRA) Expansion Project, Implementation, Amendment to the Existing Special Use Permit, NPDES Permit and COE Section 404 Permit, Idaho Panhandles National Forests, Coeur d'Alene River Range District, ID and MT.

Summary: EPA expressed environmental concerns over the lack of mitigation for aquatic habitat impacts; consistency with TMDL development for 303(d) listed waters; and the indirect effects to off site land uses.

ERP No. D-IBR-L65374-WA Rating EC2, Potholes Reservoir Resource Management Plan, Implementation, COE Section 404 and NPDES Permits, Moses Lake, Grant County, WA.

Summary: EPA expressed concerns regarding the loss of shrub-steppe and water quality. EPA requested that the Bureau of Reclamation estimate the direct, indirect and cumulative effects on shrub-steppe from project implementation, and contact the state Ecology Department for information on load limits for the Potholes Reservoir and East Potholes Canal.

ERP No. D-NPS-K65229-CA Rating EC2, Santa Cruz Island Primary Restoration Plan, Implementation, Channel Islands National Park, Santa Cruz Island, Santa Barbara County, CA.

Summary: EPA expressed environmental concerns with the adequacy of the proposed mitigation measures concerning soil erosion and noxious weeds and from potential impacts to air and water quality from aerially applied herbicides. While EPA agrees with the need for the project EPA favors the selection of Alternative 2 which appears more cost effective and efficient in the long term.

Final EISs

ERP No. F-AFS-J65316-MT Clearwater Ecosystem Management and Timber Sale Project, Timber Harvesting, Burning, Weed Spraying and Road Management, Lola National Forest, Seeley Lake Ranger District, Missoula County, MT.

Summary: EPA expressed environmental concerns regarding short-term increases in sediments levels from temporary road construction and reconstruction, road obliteration and timber harvest. EPA supports the long term objectives of the proposed project which will reduce road densities; protect the grizzly bear; reduce sources of sediment to protect water quality and bull trout habitat; improve forest health and reduce risk of insect infestation and wildfire; improve wildlife habitat; treat noxious weeds; and enhance scenic views.

ERP No. F-AFS-L65346-OR Triangle Land Exchange Project, Between Clearwater Land Exchange Oregon (Clearwater) an Oregon Partnership, Implementation, Malheur, Umatilla and Wallowa-Whitman National Forests, Baker, Grant, Harney and Wallowa Counties, OR.

Summary: No formal comment letter was sent to the preparing agency.

ERP No. F-BLM-K61148-NV Red Rock Canyon National Conservation Area (RRCNCA), General Management Plan (GMP), Amendment to the Las Vegas Resource Management Plan, Las Vegas, NV.

Summary: No formal comment letter was sent to the preparing agency.

ERP No. F-DOE-K22004-CA National Ignition Facility Project Specific Analysis, Construction and Operation at the Lawrence Livermore National Laboratory, Livermore, CA.

Summary: EPA noted that the FSEIS satisfactorily responds to EPA comments on the DSEIS.

ERP No. F-FHW-G40152-LA North-South Expressway Const. I-220 in Shreveport, LA to the Arkansas State Line, Funding and COE Section 404 Permit Issuance, Caddo Parish, LA.

Summary: The Final EIS adequately responded to comments offered on the DEIS. EPA has no objection to the section of the preferred alternative. EPA has no further comments to offer.

ERP No. F-NPS-J65319-UT Zion National Park, General Management Plan, Implementation, Washington, Iron and Kane Counties, UT.

Summary: No formal comment letter was sent to the preparing agency.

ERP No. F-NPS-K65221-AZ Chiricahua National Monument, General Management Plan, To Protect Certain National Formations, Known as “The Pinnacles,” AZ.

Summary: No formal comment letter was sent to the preparing agency.

ERP No. F-NPS-K65222-AZ Fort Bowie National Historic Site General Management Plan, Implementation, Cochise County, AZ.

Summary: No formal comment letter was sent to the preparing agency.

ERP No. F-TVA-E06020-MS Kemper County Combustion Turbine Plant, Construction and Operation, Addition of Electric General Peaking Capacity at Greenfield Sites, NPDES Permit, Kemper County, MS.

Summary: Although overall impacts do not appear to be major, EPA has some concerns with the proposed new peaking power facility. These include air quality and compensation for the proposed conversion of forested wetlands. EPA also suggest that substantive issues be included in the TVA ROD. EPA will continue to review this project through the State of Mississippi's PSD process.

ERP No. F-TVA-E39053-TN Future Water Supply Needs in the Upper Duck River Basin, NPDES Permit and COE Section 404 Permit, Bedford, Marshall, Maury and Williamson Counties, TN.

Summary: EPA notes that no preferred alternative was identified in the FEIS and believes that the No-Action Alternative should be continued with water conservation measures implemented before any additional source water action alternative is initiated when water shortfalls become acute. EPA prefers action alternatives C and E, and has environmental objections to alternatives B and D, as proposed.

Dated: April 10, 2001.
Joseph C. Montgomery,
Director, NEPA Compliance Division, Office of Federal Activities.

[FR Doc. 01-9242 Filed 4-12-01; 8:45 am]

BILLING CODE 6560-50-P